DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR Part 236 as detailed below.

Docket Number FRA-2006-24563

Applicant: Long Island Rail Road, Mr. Brian J. Finn, Chief Engineer, Hillside Maintenance Complex, 93-59 183 Street, Hollis, New York 11423.

The Long Island Rail Road Company (LIRR) seeks relief from the requirements of the Rules, Standard and Instructions, Title 49 CFR, Part 236, § 236.51, Track circuit requirements, to the extent that the LIRR be permitted to utilize single rail track circuits which do not provide for broken rail protection, in the vicinity of a new LIRR terminal called East Side Access (ESA). The ESA Project is a new rail and tunnel connection being developed, which will operate from existing Harold Interlocking, located in Long Island City, Queens, New York, extending approximately 3.5 miles into a new eight track terminal at Grand Central Terminal (GCT), in New York City, New York. There is a total of 36 specified track circuits involved.

Applicant's justification for relief:

(1) The track speed for these circuits will be restricted to 15 mph.

(2) The track in this area will be inspected, a minimum of twice per week, for evidence of broken rail.

(3) The cost to provide broken rail protection in the area is estimated to cost $30 million, due to the necessary installation of reactors in the negative return circuits. These reactors are necessary for LIRR's double rail track circuits in DC propulsion territory, to prevent leakage current from adjoining track circuits from keeping track relays energized, in the event of a broken rail.

(4) The installation of broken rail reactors would have an effect on the tunnel construction and the environmental impact study (EIS), due to increased ventilation plant requirements for the reactors.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001. Communications received within 45 days of the date of this notice will be considered by the FRA before final action is taken. Comments received after that date will be considered as far as practicable. All written communications concerning these proceedings are available for examination during regular business hours (9 a.m.-5 p.m.) at the above facility. All documents in the public docket are also available for inspection and copying on the internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC on May 9, 2006.
Grady C. Cothen, Jr.,
Deputy Associate Administrator for Safety Standards and Program Development.

[FR Doc. E6-7289 Filed 5-11-06; 8:45 am]

BILLING CODE 4910-06-P